DEPARTMENT OF ENERGY

Federal Energy Regulatory Commission

Combined Notice of Filings

Take notice that the Commission has received the following Natural Gas Pipeline Rate and Refund Report filings:

Filings Instituting Proceedings

Docket Numbers: PR14-51-000.

Applicants: Enbridge Pipelines (North Texas) L.P.

Description: Tariff filing per 284.123(b)(2)/.: Request for New Rates to be effective 9/1/2014; TOFC: 760.

Filed Date: 8/27/14.

Accession Number: 20140827-5079.

Comments Due: 5 p.m. ET 9/17/14.

284.123(g) Protests Due

Docket Numbers: RP14-1237-000.

Applicants: Texas Gas Transmission, LLC.

Description: § 4(d) rate filing per 154.204: Permanent Capacity Release of Neg Rate Agmt (Constellation 38273 to Exelon 34142) to be effective 9/1/2014.

Filed Date: 9/2/14.

Accession Number: 20140902-5057.

Comments Due: 5 p.m. ET 9/15/14.

Docket Numbers: RP14-1238-000.

Applicants: Gulf South Pipeline Company, LP.

Description: § 4(d) rate filing per 154.204: Cap Rel Neg Rate Agmt (QEP 37657 to Trans LA 43005) to be effective 9/1/2014.

Filed Date: 9/2/14.

Accession Number: 20140902-5068.

Comments Due: 5 p.m. ET 9/15/14.

Docket Numbers: RP14-1239-000.

Applicants: ANR Storage Company.

Description: § 4(d) rate filing per 154.601: United Energy_Twin Eagle to be effective 9/1/2014.

Filed Date: 9/2/14.

Accession Number: 20140902-5080.

Comments Due: 5 p.m. ET 9/15/14.

Docket Numbers: RP14-1240-000.

Applicants: Columbia Gulf Transmission, LLC.

Description: FTS-2 Out of Path Refund Report of Columbia Gulf Transmission, LLC.

Filed Date: 9/2/14.

Accession Number: 20140902-5083.

Comments Due: 5 p.m. ET 9/15/14.

Docket Numbers: RP14-1241-000.

Applicants: Columbia Gas Transmission, LLC.

Description: Compliance filing per 154.203: Giles County Implementation, CP13-125 to be effective 10/1/2014.

Filed Date: 9/2/14.

Accession Number: 20140902-5211.

Comments Due: 5 p.m. ET 9/15/14.

Docket Numbers: RP14-1242-000.

Applicants: Tennessee Gas Pipeline Company, LLC.

Description: § 4(d) rate filing per 154.204: Clean Up—Negotiated Rate and Non-Conforming Agreements to be effective 10/1/2014.

Filed Date: 9/2/14.

Accession Number: 20140902-5213.

Comments Due: 5 p.m. ET 9/15/14.

Docket Numbers: RP14-1243-000.

Applicants: Columbia Gas Transmission, LLC.

Description: § 4(d) rate filing per 154.601: Negotiated & Non-Conforming Service Agmts—Giles Co, Celanese to be effective 10/1/2014.

Filed Date: 9/2/14.

Accession Number: 20140902-5222.

Comments Due: 5 p.m. ET 9/15/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 3, 2014.
Nathaniel J. Davis, Sr.,
Deputy Secretary.

[FR Doc. 2014-21805 Filed 9-11-14; 8:45 am]

BILLING CODE 6717-01-P